NUCLEAR REGULATORY COMMISSION

[Docket No. 40-0299]

Umetco Minerals Corporation

AGENCY: Nuclear Regulatory Commission.

ACTION: Final finding of no significant impact; Notice of opportunity for hearing.

SUMMARY: The U.S. Nuclear Regulatory Commission (NRC) proposes to amend NRC Source Material License SUA-648 to authorize the licensee, Umetco Minerals Corporation (Umetco), to decommission the contaminated land associated with the operation of the uranium mill facility according to the Revised Soil Decommissioning Plan submitted September 15, 2000, as amended. The Umetco East Gas Hills site, is located in Natrona County, Wyoming, approximately 50 miles (80 kilometers) southeast of the town of Riverton, Wyoming. The mill operated from 1960 to 1979 and was dismantled in 1992. During operation, wind-blown tailings and tailings-solution from the Above-Grade Impoundment contaminated areas north of the Impoundment. A portion of the land contaminated with byproduct material was remediated (excavated) in 1993. Several changes and improvements have been proposed in the revised decommissioning plan.

An Environmental Assessment (EA) was performed by the NRC staff in support of its review of Umetco's license amendment request, in accordance with the requirements of 10 CFR part 51. The conclusion of the Environmental Assessment is a Finding of No Significant Impact (FONSI) for the proposed licensing action.

FOR FURTHER INFORMATION CONTACT: Ms. Elaine Brummett, Fuel Cycle Licensing Branch, Division of Fuel Cycle Safety and Safeguards, Office of Nuclear Material Safety and Safeguards, U.S. Nuclear Regulatory Commission, Mail Stop T7-C6, Washington, DC 20555. Telephone 301/415-6606.

SUPPLEMENTARY INFORMATION:

Background

The Umetco Minerals Corporation (Umetco) site is licensed by the U.S. Nuclear Regulatory Commission (NRC) under Source Materials License SUA-648 to possess byproduct material in the form of uranium waste tailings as well as other radioactive wastes generated by past milling operations. The mill has been dismantled and current site activities include completion of reclamation of three disposal areas and continuation of the ground water corrective action program.

The original soil decommissioning plan was approved with additional requirements as documented in License Condition (LC) 30. The major proposed modifications in the revised plan include:

1. An improved method of gamma scanning;

2. A detailed plan for providing documentation that the regulations have been met;

3. A revised radium background value for compliance in the wind-blown area; and

4. Alternate criteria for the residual byproduct material in the channel of East Canyon Creek.

Summary of the Environmental Assessment

The NRC staff performed an appraisal of the environmental impacts associated with the revised soil decommissioning plan, in accordance with 10 CFR part 51, Environmental Protection Regulations for Domestic Licensing and Related Regulatory Functions. The license amendment would authorize Umetco to complete soil cleanup in the wind-blown area north of the Above-Grade Impoundment and to leave small amounts of residual byproduct material in the channel of East Canyon Creek as proposed. In conducting its appraisal, the NRC staff considered the following information: (1) Umetco's 1999 and 2000 submittals supporting the license amendment request, including a risk assessment for East Canyon Creek; (2) previous environmental evaluations of the facility; (3) data contained in required environmental monitoring reports; (4) existing license conditions; (5) results of NRC staff site visits and inspections of the Umetco facility; and (6) consultations with the U.S. Fish and Wildlife Service, the U.S. Bureau of Land Management, and the Wyoming State Historic Preservation Officer. The technical aspects of the revised reclamation plan are discussed separately in a Technical Evaluation Report (TER) that will accompany the final agency licensing action.

The results of the staff's appraisal are documented in an EA placed in the docket file. Based on its review, the NRC staff has concluded that there are no significant environmental impacts associated with the proposed action.

Conclusions

The NRC staff has examined actual and potential impacts associated with the revised decommissioning plan, and has determined that the requested amendment of Source Material License SUA-648, authorizing implementation of the revised soil decommissioning plan, will: (1) Be consistent with requirements of 10 CFR part 40, appendix A; (2) not be inimical to the public health and safety; and (3) not have long-term detrimental impacts on the environment.

The following statements summarize the conclusions resulting from the staff's environmental assessment, and support the FONSI:

1. An acceptable environmental and effluent monitoring program is in place to monitor effluent releases and to detect if applicable regulatory limits are exceeded. Radiological effluents from facility operations have been and are expected to remain below the regulatory limits.

2. Present and potential health risks to the public and risks of environmental damage from the proposed decommissioning were assessed. Given the remote location, limited activities requested, small area of impact, and past activities on the site, the staff determined that the risk factors for health and environmental hazards are insignificant.

3. Potential risks to the public and the environment from the byproduct material proposed to remain in the channel of East Canyon Creek (an ephemeral stream) were evaluated. Data on radionuclides and heavy metals in soil, water, vegetation, and animals were reviewed. Also, staff considered the contributions of these constituents from the near-by uranium mining activities and from natural uranium deposits in the creek bank. The staff determined that the current and long-term hazards from byproduct material in the creek channel are insignificant. The cost of remediation, risks to remediation workers, and the environmental harm (erosion, affect on wildlife including endangered species, etc) that would result from excavation of soil in the creek channel far out-weigh any slight health benefit that might arise as a result of remediation in this area. Also, the level of protection would be equivalent to meeting the soil radium standard, to the extent practicable.

Alternatives to the Proposed Action

The proposed action is to amend NRC Source Material License SUA-648, for decommissioning of the windblown tailings area and application of alternative criteria (no remediation) for the residual byproduct material in a portion of the East Canyon Creek channel, as requested by Umetco. Therefore, the principal alternatives available to NRC are to:

1. Approve the license amendment request as submitted; or

2. Amend the license with such additional conditions as are considered necessary or appropriate to protect public health and safety and the environment; or

3. Deny the amendment request.

Based on its review, the NRC staff has concluded that the environmental impacts associated with the proposed action do not warrant either the limiting of Umetco's future operations or the denial of the license amendment. Additionally, in the TER prepared for this action, the staff has reviewed the licensee's proposed action with respect to the criteria for reclamation, specified in 10 CFR part 40, appendix A, and has no basis for denial of the proposed action. Therefore, the staff considers that Alternative 1 is the appropriate alternative for selection.

Finding of No Significant Impact

The NRC staff has prepared an EA for the proposed renewal of NRC Source Material License SUA-648. On the basis of this assessment, the NRC staff has concluded that the environmental impacts that may result from the proposed action would not be significant, and therefore, preparation of an Environmental Impact Statement is not warranted.

The EA and other documents related to this proposed action are available for public inspection and copying at the NRC Public Document Room, One White Flint North, 11555 Rockville Pike, Rockville, MD 20852.

Notice of Opportunity for Hearing

The Commission hereby provides notice that this is a proceeding on an application for a licensing action falling within the scope of 10 CFR part 2, subpart L, “Informal Hearing Procedures for Adjudications in Materials and Operators Licensing Proceedings,” of the Commission's Rules of Practice for Domestic Licensing Proceedings and Issuance of Orders. Pursuant to § 2.1205(a), any person whose interest may be affected by this proceeding may file a request for a hearing. In accordance with § 2.1205(d), a request for a hearing must be filed within thirty (30) days from the date of publication of this Federal Register notice. The request for a hearing must be filed with the Office of the Secretary either:

(1) By delivery to the Rulemakings and Adjudications Staff of the Office of the Secretary at One White Flint North, 11555 Rockville Pike, Rockville, MD 20852; or

(2) By mail or telegram addressed to the Secretary, U.S. Nuclear Regulatory Commission, Washington, DC 20555, Attention: Rulemakings and Adjudications Staff.

In accordance with 10 CFR 2.1205(f), each request for a hearing must also be served, by delivering it personally or by mail to:

(1) The applicant, Umetco Minerals Corporation, PO 1029, Grand Junction, CO 81502;

(2) The NRC staff, by delivery to the General counsel, One White Flint North, 11555 Rockville Pike, Rockville, MD 20852, or

(3) By mail addressed to the General Counsel, U.S. Nuclear Regulatory Commission, Washington, DC 20555.

In addition to meeting other applicable requirements of 10 CFR part 2 of the Commission's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

Any hearing that is requested and granted will be held in accordance with the Commission's “Informal Hearing Procedures for Adjudications in Materials and Operator Licensing Proceedings” in 10 CFR part 2, subpart L.

Dated at Rockville, Maryland, this 23rd day of February 2001.
For the Nuclear Regulatory Commission.
Philip Ting,
Chief, Fuel Cycle Licensing Branch, Division of Fuel Cycle Safety and Safeguards, Office of Nuclear Material Safety and Safeguards.

[FR Doc. 01-4959 Filed 2-28-01; 8:45 am]

BILLING CODE 7590-01-P